DEPARTMENT OF COMMERCE

Foreign-Trade Zones Board

Order No. 1575

Termination of Foreign-Trade Subzone 61G, Carolina, Puerto Rico

Pursuant to the authority granted in the Foreign-Trade Zones Act of June 18, 1934, as amended (19 U.S.C. 81a-81u), and the Foreign-Trade Zones Board Regulations (15 CFR Part 400), the Foreign-Trade Zones Board has adopted the following order:

Whereas, on November 28, 1995, the Foreign-Trade Zones Board issued a grant of authority to the Puerto Rico Trade and Export Company (PRTEC) authorizing the establishment of Foreign-Trade Subzone 61G at the IPR Pharmaceuticals, Inc. facility, Carolina, Puerto Rico (Board Order 787, 60 FR 63499, 12/11/95);

Whereas, PRTEC has advised the Board that zone procedures are no longer needed at the facility and requested voluntary termination of Subzone 61G (FTZ Docket 18-2008);

Whereas, the request has been reviewed by the FTZ Staff and U.S. Customs and Border Protection officials, and approval has been recommended;

Now, therefore, the Foreign-Trade Zones Board terminates the subzone status of Subzone 61G, effective this date.

Signed at Washington, DC, this 18th day of September 2008.

David M. Spooner,
Assistant Secretary of Commerce for Import Administration, Alternate Chairman, Foreign-Trade Zones Board.
Attest:
Andrew McGilvray,
Executive Secretary.

[FR Doc. E8-24026 Filed 10-8-08; 8:45 am]

BILLING CODE 3510-DS-S